DEPARTMENT OF HEALTH AND HUMAN SERVICES

Health Resources and Services Administration

Fiscal Year 2002 Competitive Application Cycle for the Nursing Education Loan Repayment Program 93.908

AGENCY: Health Resources and Services Administration.

ACTION: Notice.

SUMMARY: The Health Resources and Services Administration (HRSA) announces that applications will be accepted for the Nursing Education Loan Repayment Program (NELRP) for Fiscal Year 2002.

Authorizing Legislation: These applications are solicited under section 846 of the Public Health Service (PHS) Act, as amended, which authorizes loan repayment, in the amount of 30 percent of the outstanding principal and interest on nursing education loans for each of the first two years of full-time nursing service completed in an eligible health facility, and 25 percent for a third year of service completed.

Eligible Applicants: An individual is eligible to apply for NELRP if the individual: (1) Has received a baccalaureate or associate degree in nursing, a diploma in nursing, or a graduate degree in nursing; (2) has obtained one or more nursing student loans authorized under section 835(a) of the PHS Act, as amended, or any other educational loan for nurse training costs; (3) enters into an agreement to serve as a full-time registered or advanced practice nurse for a period of not less than two years in an eligible health facility; and (4) is a U.S. citizen, U.S. national, or a permanent legal resident of the United States.

An “eligible health facility” is defined as: (1) An Indian Health Service health center; (2) a Native Hawaiian health center; (3) a public hospital (operated by a State, county, or local government); (4) a health center funded under section 330 of the PHS Act (including community, migrant, homeless, and public housing centers); (5) a rural health clinic under Section 1861(aa)(2) of the Social Security Act; or (6) a public or nonprofit private health facility determined by the Secretary to have a critical shortage of nurses.

For Fiscal Year 2002, the Secretary has defined health facilities with a critical shortage of nurses as any public or nonprofit private health facility: (1) On the NELRP's Fiscal Year 2002 list of facilities with a critical shortage of nurses; (2) located in a county on the NELRP's Fiscal Year 2002 list of counties with a shortage of nurses; (3) located in a currently designated whole county health professional shortage area (HPSA) or (4) classified as one of the following regardless of its location: a public health department, nursing home or rehabilitation center.

Funding Preference: A funding preference is defined as the funding of a specific category or group of approved applicants ahead of other categories or groups of applicants. The following preferences apply to the NELRP applicants:

A. As provided in section 846(e) of the PHS Act, as amended, first preference will be given to qualified applicants with the greatest financial need who agree to serve in eligible health facilities located in a county on the NELRP's Fiscal Year 2002 list of counties with a shortage of nurses.

Applicants whose total qualifying loans are 40% or greater of their annualized salary will meet the greatest financial need requirement of the funding preference.

B. Remaining funds will be awarded in the following order: (1) To qualified applicants who are employed at an eligible health facility located in a county with a shortage of nurses regardless of the applicant's financial need; (2) to qualified applicants employed at an eligible health facility not located in a county with a shortage of nurses who demonstrate greatest financial need; and (3) other qualified applicants who are serving in States that received few or no new NELRP participants.

Estimated Amount of Available Funds: Up to $8,000,000 will be available in Fiscal Year 2002 for this program.

Estimated Number of Awards: It is estimated that 445 Loan Repayment Contracts will be awarded in Fiscal Year 2002 for this program.

Application Requests, Availability, Dates and Addresses: Applicants may register online at http://bhpr.hrsa.gov/nursing for application guidance and/or lists of eligible health facilities, nurse shortage counties, and HPSAs by following the instructions on the Web page. Instructions for submitting applications electronically will also be available on the Web. Application guidance will be available for downloading via the Web on April 9, 2002. Applicants who register online will automatically be sent information regarding the application guidance and/or lists of eligible health facilities, nurse shortage counties, and HPSAs. Applicants may also request a hard copy of the application materials and/or lists of eligible health facilities, nurse shortage counties, and HPSAs by calling (866) 813-3753.

In order to be considered, applications for loan repayment must be submitted to the Division of Nursing (NELRP), Bureau of Health Professions, HRSA, Room 9-36, Parklawn Building, 5600 Fishers Lane, Rockville, MD 20857. Applications must be postmarked by June 14, 2002. Applications postmarked after the deadline date or sent to any address other than the Rockville, Maryland address may be returned to the applicant and not processed.

FOR FURTHER INFORMATION CONTACT: Ms. Jacqueline Brown, e-mail at jbrown1@hrsa.gov; Ms. Leola Bennett, e-mail at lbennett@hrsa.gov; or Ms. Robin Ingram, e-mail at ringram@hrsa.gov, Division of Nursing, Bureau of Health Professions, HRSA, Room 9-36, Parklawn Building, 5600 Fishers Lane, Rockville, Maryland 20857. Central telephone is (301) 443-3232. Fax number is (301)443-0791.

Paperwork Reduction Act: The Application for Nursing Education Loan Repayment Program has been approved by the Office of Management and Budget (OMB) under the Paperwork Reduction Act. The OMB clearance number is 0915-0140.

The program is not subject to the provision of Executive Order 12372, Intergovernmental Review of Federal Programs (as implemented through 45 CFR part 100). This program is also not subject to the Public Health Systems Reporting Requirements.

Dated: March 29, 2002.
Elizabeth M. Duke,
Administrator.

[FR Doc. 02-8496 Filed 4-8-02; 8:45 am]

BILLING CODE 4165-15-P